DEPARTMENT OF JUSTICE

Parole Commission

Public Announcement; Sunshine Act Meeting; Pursuant to The Government in the Sunshine Act (Pub. L. 94-409) (5 U.S.C. Section 552b).

Agency Holding meeting: Department of Justice, United States Parole Commission.

Time and Date: 9:30 a.m., Thursday, December 6, 2001.

Place: 5550 Friendship Blvd., Fourth Floor, Chevy Chase, MD 20815.

Status: Open.

Matters to be Considered: The following matters have been placed on the agenda for the open Parole Commission meeting:

1. Approval of minutes of Previous Commission Meeting.

2. Reports from the Chairman, Commissioners, Legal, Chief of Staff, Case Operations, and Administrative Sections.

3. Approval of policy to apply 28 CFR § 2.100 to combine initial hearings for DC prisoners with dispositional revocation hearings.

Agency Contact: Sam Robertson, Case Operations, United States Parole Commission, (301) 492-5962.

Dated: November 30, 2001.
Rockne Chickinell,
General Counsel, U.S. Parole Commission.

[FR Doc. 01-30242 Filed 12-3-01; 11:12 am]

BILLING CODE 4410-31-M